DEPARTMENT OF AGRICULTURE

Forest Service

Oil and Gas Leasing on Lands Administered by the Dixie National Forest, Supplemental Information Report—Air Resources

AGENCY: Forest Service, USDA.

ACTION: Notice of availability—supplemental information report.

SUMMARY: The USDA Forest Service announces the availability of an additional information report to the Oil and Gas Leasing on Lands Administered by the Dixie National Forest Final Environmental Impact Statement (FEIS). The purpose of this supplemental report is to provide additional analysis and disclosure on the effects of the proposed action on air resources and climate change and to provide the opportunity for public comment on the additional information.

DATES: To ensure that comments will be considered, the FS must receive written comments on the Oil and Gas Leasing on Lands Administered by the Dixie National Forest, Supplemental Information Report—Air Resources within 30 days following the date this Notice of Availability is published in the Federal Register. Comments regarding the SIR should be directed to the issues of air resources and climate change and are for additional analysis purposes only. All public comments submitted by December 15, 2008 on the DEIS are still applicable and have been reviewed by the Forest. You must have commented during the 60-day DEIS comment period to be eligible to appeal the upcoming decision.

ADDRESSES: You may submit comments related to the Air Resources—Supplemental Information Report by any of the following methods:

• Web site: http://www.fs.fed.us/r4/dixie/projects/oil_gas/index.shtml.

• E-mail: dixie_oil_gas_eis_comments@fs.fed.us (e-mail comments must be in MS Word [*.doc) or rich text format (*.rtf)].

• Fax: (435) 865-3791.

• Mail: Ms. Susan Baughman, Dixie National Forest, USDA Forest Service, Oil and Gas Leasing Project, 1789 N. Wedgewood Lane, Cedar City, Utah 84721.

CDs containing the SIR are available upon request to Susan Baughman, EIS Project Manager, 1789 N. Wedgewood Lane, Cedar City, Utah 84721; 435-865-3703.

FOR FURTHER INFORMATION CONTACT: Ms. Susan Baughman, Dixie National Forest, USDA Forest Service, Oil and Gas Leasing Project Leader, 1789 N. Wedgewood Lane, Cedar City, Utah 84721.

SUPPLEMENTARY INFORMATION: This announces the availability of the Supplemental Information Report (SIR) for the Dixie National Forest (Forest) Oil & Gas Leasing Environmental Impact Statement (EIS). The Draft EIS for this project was issued for public comment on October 17, 2008. During the 60-day comment period a number of comments were received relative to the impact analysis for air resources. In their comments, the Environmental Protection Agency requested that a more rigorous air-quality modeling study be completed for inclusion in the Final EIS. They recommended that this study use different air emission factors for the subject facilities-based emission limitations, which would become effective in the future. This revised modeling was conducted in collaboration with the EPA and the Utah Division of Air Quality and the report on this modeling was revised and is hereby being made available for public review.

In January 2009, the U.S. Forest Service issued guidance on including climate change in the environmental analyses for future planning decisions. In accordance with this direction and in response to public comment, the Forest has prepared a new appendix to the EIS that considers the effects of the proposed oil and gas leasing on climate change and the effects of climate change on the proposed action. This appendix is hereby being made available for public review.

As a result of the two new sources of information described above, the Dixie National Forest has modified the Air Resources sections of the EIS to incorporate the revised air quality impact modeling results and the evaluation of climate change. These revised air resources sections of the EIS are being made available for public review at this time as the main body of the SIR, with references to the revised Air Quality Modeling Report and the Climate Change Report. The SIR does not address any other issues or analysis.

Before including your address, phone number, e-mail address, or other personal identifying information in your comment, you should be aware that your entire comment—including your personal identifying information—may be made publicly available at any time. While you can ask us in your comment to withhold your personal identifying information from public review, we cannot guarantee that we will be able to do so.

(Authority: 40 CFR 1501.7 and 1508.22; Forest Service Handbook 1909.15, Section 21)

Dated: February 8, 2010.
Robert G. MacWhorter,
Forest Supervisor—Dixie National Forest.

[FR Doc. 2010-3136 Filed 2-18-10; 8:45 am]

BILLING CODE 3410-11-P